DEPARTMENT OF JUSTICE

Notice of Lodging of Settlement Pursuant to Comprehensive Environmental Response, Compensation and Liability Act

Notice is hereby given that on August 2, 2007, a proposed settlement in United States v. Ludlow's Sand and Gravel Co., Inc. and G. Kevin Ludlow, Civil No. 07-cv-00793-GLS-DEP, was lodged with the United States District Court for the Northern District of New York.

In this action, the United States asserts claims against Ludlow's Sand and Gravel Co., Inc. and G. Kevin Ludlow under sections 106 and 107 of the Comprehensive Environmental Response, Compensation and Liability Act (CERCLA), 42 U.S.C. Sections 9606 and 9607, for recovery of response costs and injunctive relief related to the Ludlow's Sand and Gravel Superfund Site (the “Site”) in Paris, New York. The proposed Consent Decree is based on the Defendants' limited ability-to-pay and provides for Ludlow's Sand and Gravel Co., Inc. to perform services in support of the cleanup activities by the United States at the Site. The Decree provides the Defendants with a covenant not to sue under Sections 106 and 107 of CERCLA.

The Department of Justice will receive for a period of thirty (30) days from the date of this publication comments relating to the settlement. Comments should be addressed to the Assistant Attorney General, Environment and Natural Resources Division, and either e-mailed to pubcomment-ees.enrd@usdoj.gov or mailed to P.O. Box 7611, U.S. Department of Justice, Washington, DC 20044-7611, and should refer to United States v. Ludlow's Sand and Gravel Co., Inc. and G. Kevin Ludlow, et al., D.J. Ref. 90-11-3-08084/1.

The settlement may be examined at the Office of the United States Attorney, Northern District of New York, 100 S. Clinton Street, Syracuse, NY 13261-7198 and at the Region II Office of the U.S. Environmental Protection Agency, Region II Records Center, 290 Broadway, 17th Floor, New York, NY 10007-1866. During the public comment period, the settlement may also be examined on the following Department of Justice Web site: http://www.usdoj.gov/enrd/Consent_Decrees.html. A copy of the settlement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $17.50 (25 cents per page reproduction cost) payable to the U.S. Treasury or, if by e-mail or fax, forward a check in that amount to the Consent Decree Library at the stated address.

Ronald G. Gluck,
Assistant Section Chief, Environmental Enforcement Section, Environment and Natural Resources Division.

[FR Doc. 07-3999 Filed 8-14-07; 8:45 am]

BILLING CODE 4410-15-M